DEPARTMENT OF ENERGY

Federal Energy Regulatory Commission

[Project No. 5824-013]

Webster Hydro Electric Company, Inc., Webster Hydro LLC; Notice of Transfer of Exemption

1. By letter filed May 21, 2025, Webster Hydro Electric Company, Inc and Webster Hydro LLC informed the Commission that the exemption from licensing for the North Village Pond Project No. 5824, originally issued May 27, 1982,¹ has been transferred to Webster Hydro LLC.² The project is located on the French River in Worcester County, Massachusetts. The transfer of an exemption does not require Commission approval.

¹ Webster Hydro Electric Company, Inc., 19 FERC ¶ 62,361 (1982) (Order Granting Exemption from Licensing of a Small Hydroelectric Project of 5 Megawatts or Less).

² This notice supersedes the notice that was published on April 21, 2025, which erroneously designated the new exemptee as West Dudley Hydro LLC.

2. Webster Hydro LLC, located at 17 Mark Avenue, Webster, Massachusetts 01570 is now the exemptee of the North Village Pond Project No. 5824.

Dated: July 14, 2025.
Debbie-Anne A. Reese,
Secretary.

[FR Doc. 2025-13444 Filed 7-16-25; 8:45 am]

BILLING CODE 6717-01-P